NUCLEAR REGULATORY COMMISSION

[Docket No. 63-001-HLW; ASLBP Nos. 09-876-HLW-CAB01, 09-877-HLW-CAB02, 09-878-HLW-CAB03]

Department of Energy; Establishment of Atomic Safety and Licensing Boards

Pursuant to delegation by the Commission dated December 29, 1972, published in the Federal Register, 37 FR 28,710 (1972), and the Commission's regulations, see 10 CFR 2.300 et seq., 2.1000 et seq., notice is hereby given that Atomic Safety and Licensing Boards are being established to preside over the Petitions to Intervene and the Requests to Participate in the following proceeding, and to perform all other duties as the Chief Administrative Judge may assign: U.S. Department of Energy, High-Level Waste Repository, Construction Authorization Application.

This proceeding concerns Petitions to Intervene from (1) Caliente Hot Springs Resort LLC; (2) State of California; (3) Clark County, Nevada; (4) Churchill, Esmeralda, Lander and Mineral Counties, Nevada; (5) Inyo County, California; (6) Native Community Action Council; (7) State of Nevada; (8) Nuclear Energy Institute; (9) Nye County, Nevada; (10) Timbisha Shoshone Tribe; (11) Timbisha Shoshone Yucca Mountain Oversight Program Non-Profit; and (12) White Pine County, Nevada. Additionally, Requests to Participate as an Interested Government Body have been received from: (1) Eureka County, Nevada; and (2) Lincoln County, Nevada. The Petitions and Requests, which were submitted in response to an October 22, 2008 Notice of Hearing and Opportunity To Petition for Leave To Intervene (73 FR 63,029), challenge the June 3, 2008 application filed by the Department of Energy seeking authorization to construct a geologic repository at Yucca Mountain in Nye County, Nevada.

The Licensing Boards, which shall also be referred to as Construction Authorization Boards (CABs), are comprised of the following Administrative Judges:

CAB 01

William J. Froehlich, Chair, Atomic Safety and Licensing Board Panel, U.S. Nuclear Regulatory Commission, Washington, DC 20555-0001.

Thomas S. Moore, Atomic Safety and Licensing Board Panel, U.S. Nuclear Regulatory Commission, Washington, DC 20555-0001.

Richard E. Wardwell, Atomic Safety and Licensing Board Panel, U.S. Nuclear Regulatory Commission, Washington, DC 20555-0001.

CAB 02

Michael M. Gibson, Chair, Atomic Safety and Licensing Board Panel, U.S. Nuclear Regulatory Commission, Washington, DC 20555-0001.

Lawrence G. McDade, Atomic Safety and Licensing Board Panel, U.S. Nuclear Regulatory Commission, Washington, DC 20555-0001.

Nicholas G. Trikouros, Atomic Safety and Licensing Board Panel, U.S. Nuclear Regulatory Commission, Washington, DC 20555-0001.

CAB 03

Paul S. Ryerson, Chair, Atomic Safety and Licensing Board Panel, U.S. Nuclear Regulatory Commission, Washington, DC 20555-0001.

Michael C. Farrar, Atomic Safety and Licensing Board Panel, U.S. Nuclear Regulatory Commission, Washington, DC 20555-0001.

Mark O. Barnett, Atomic Safety and Licensing Board Panel, U.S. Nuclear Regulatory Commission, Washington, DC 20555-0001.

The allocation among the CABs of the Petitions to Intervene and/or the proffered contentions, as well as the Requests to Participate, will be announced at a later date. Until further order, all pleadings, correspondence, documents, and other materials shall be filed with all three CABs in accordance with 10 CFR 2.1013(c).

Issued at Rockville, Maryland, this 16th day of January 2009.
E. Roy Hawkens,
Chief Administrative Judge, Atomic Safety and Licensing Board Panel.

[FR Doc. E9-1577 Filed 1-23-09; 8:45 am]

BILLING CODE 7590-01-P